DEPARTMENT OF ENERGY

Federal Energy Regulatory Commission

[Docket No. EL02-111.006, et al.]

Midwest Independent Transmission System Operator, Inc., et al.; Electric Rate and Corporate Filings

August 28, 2003.

The following filings have been made with the Commission. The filings are listed in ascending order within each docket classification.

1. Midwest Independent Transmission System Operator, Inc. and PJM Interconnection, L.L.C., et al.

[Docket No. EL02-111-006]

Take notice that on August 22, 2003, in compliance with the Commission's July 23, 2003 Order in this proceeding, 104 FERC ¶ 61,105 (2003), PJM Interconnection, L.L.C. (PJM) filed revisions to the PJM Open Access Transmission Tariff, to eliminate PJM's through-and-out rate for transactions sinking within the proposed PJM/Midwest ISO footprint.

PJM states that the compliance tariff sheets have an effective date of November 1, 2003, as established by the July 23 Order.

PJM states that copies of this filing have been served on all PJM members and utility regulatory commissions in the PJM Region and on all parties listed on the official service list compiled by the Secretary in this proceeding.

Comment Date: September 29, 2003.

2. Westar Energy, Inc.

[Docket No. ER03-1183-001]

Take notice that on August 22, 2003, Westar Energy, Inc. (Westar) submitted for filing corrections to Sheet No. 7, Second Revised Rate Schedule FERC No. 264, Electric Transmission and Service Contract between Westar and Kansas Electric Power Cooperative, Inc. (KEPCo) and Sheet No. 7, Original Rate Schedule FERC No. 183, Electric Power Transmission and Service Contract between Westar's wholly owned subsidiary, Kansas Gas and Electric Company, Inc. and KEPCo. Westar states that the revised sheets lists the date of May 19, 2003 for the Stipulation and Agreement among Westar, KEPCo and Midwest Energy, Inc. to replace the incorrect date of March 19, 2003 listed in their August 8, 2003 filing.

Westar states that a copy of this filing was served upon the Kansas Corporation Commission and KEPCo.

Comment Date: September 12, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22702 Filed 9-5-03; 8:45 am]

BILLING CODE 6717-01-P